DEPARTMENT OF DEFENSE

Department of the Navy

Notice of Intent To Grant an Exclusive Patent License; Immulogix, LLC

AGENCY: Department of the Navy, DoD.

ACTION: Notice.

SUMMARY: The Department of the Navy hereby gives notice of its intent to grant to Immulogix, LLC, a revocable, nonassignable, exclusive license to practice worldwide the Government-owned inventions described in U.S. Patent Number 4,959,304, entitled “Production of Monoclonal Antibodies to Treponema Denticola by Hybridoma TDIII, IIIBB2” issued 25 September 1990; U.S. Patent Number 5,514,553, entitled “Production of Monoclonal Antibodies to Treponema Denticola by Hybridoma TDII, IAA11” issued 7 May 1996; U.S. Patent Number 5,665,559, entitled “Production of Monoclonal Antibodies to Bacteroides Gingivalis by Hybridoma BGII, VF9/2D” issued 9 September 1997; U.S. Patent Number 5,741,659, entitled “Rapid Microbial Protease Assay” issued 21 April 1998 and 6,015,681, entitled “Rapid Immunoassay for Cariogenic Bacteria” issued 18 January 2000. The present inventions relate to the field of development of cariogenic immunodiagnostic assays.

DATES: Anyone wishing to object to the grant of this license has fifteen (15) days from the date of this notice to file written objections along with supporting evidence, if any.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428 or e-mail at: schlagelc@nmrc.navy.mil.

Dated: December 14, 2005.
Eric McDonald,
Lieutenant Commander, Judge Advocate General's Corps, U.S. Navy, Federal Register Liaison Officer.

[FR Doc. 05-24347 Filed 12-21-05; 8:45 am]

BILLING CODE 3810-FF-P